DEPARTMENT OF HOMELAND SECURITY

Federal Emergency Management Agency

44 CFR Part 67

[Docket ID FEMA-2019-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the modified BFEs for each community listed. These modified elevations have been published in newspapers of local circulation and ninety (90) days have elapsed since that publication. The Deputy Associate Administrator for Insurance and Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. FEMA included flood hazard mapping data dissemination determinations as part of the NFIP Nationwide Programmatic Environmental Impact Statement, published on November 3, 2017, and completed in accordance with the Council on Environmental Quality's National Environmental Policy Act implementing regulations in 40 CFR 1500-1508 and therefore has determined that this action will not have a significant effect on the human environment.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

David I. Maurstad,
Deputy Associate Administrator for Insurance and Mitigation, Department of Homeland Security, Federal Emergency Management Agency.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) modified | Communities affected
Erie County, New York (All Jurisdictions)
Docket No.: FEMA-B-1128
Berricks Creek | Approximately 45 feet upstream of the I-90 culvert (upstream face) | +753 | Town of Hamburg.
| Approximately 230 feet upstream of the I-90 culvert (upstream face) | +753
Big Sister Creek | Approximately 5,475 feet downstream of Cain Road/Evans/Eden town boundary | +732 | Town of Eden.
| Approximately 1,875 feet downstream of Cain Road/Evans/Eden town boundary | +735
Buffalo River | At the confluence with Lake Erie | +581 | City of Buffalo.
| At the upstream face of the railroad bridge | +581
Cayuga Creek | Approximately 80 feet upstream of Clinton Street At the Lancaster/Alden town boundary | +593 +742 | Town of Cheektowaga, Town of Lancaster, Town of West Seneca, Village of Depew, Village of Lancaster.
Cazenovia Creek | At the confluence with the Buffalo River | +583 | City of Buffalo.
| At the downstream face of Southside Parkway | +583
Cazenovia Creek East Branch | Approximately 500 feet downstream of Center Street | +874 | Village of East Aurora.
| Approximately 10 feet downstream of Center Street (at the Town of Aurora/Village of East Aurora boundary) | +874
Cazenovia Creek East Branch | Approximately 565 feet upstream of North Main Street (State Route 16) | +1,063 | Town of Holland.
| Approximately 1,930 feet upstream of North Main Street (State Route 16) | +1,076
Eighteenmile Creek | Approximately 230 feet upstream of the confluence with Eighteenmile Creek South Branch Tributary | +650 | Town of Hamburg.
| Approximately 425 feet downstream of South Creek Road | +714
Eighteenmile Creek | Approximately 5,280 feet upstream of U.S. Route 62 (Pierce Avenue) | +766 | Village of Hamburg.
| Approximately 5,750 feet upstream of U.S. Route 62 (Pierce Avenue) | +767
Ellicott Creek | Approximately 1,035 feet upstream of Colvin Boulevard Approximately 1,435 feet northeast of the intersection of Lawrence Bell Drive and Cartwright Drive | +572 +695 | Town of Amherst, Town of Tonawanda.
Ellicott Creek | At the downstream Town of Alden/Village of Alden boundary | +810 | Village of Alden.
| At the upstream Town of Alden/Village of Alden boundary | +815
Ellicott Creek | At Lynbrook Drive Approximately 150 feet west of the intersection of Willow Grove Street and Parker Boulevard. | +572 +572 | City of Tonawanda, Town of Tonawanda.
Lake Erie | At the southern corporate limits of the Town of Brant At the confluence with Black Rock Canal | +579 +581 | City of Buffalo, City of Lackawanna, Town of Brant.
Little Buffalo Creek | At the confluence with Cayuga Creek | +686 | Town of Lancaster.
| At the downstream face of the dam, upstream of Bowen Road | +688
Ransom Creek | At the upstream face of the Glen Oak Drive culvert Approximately 115 feet upstream of Kraus Road | +582 +652 | Town of Amherst, Town of Clarence.
Scajaquada Creek | Approximately 15 feet downstream of the I-190 exit ramp | +579 | City of Buffalo.
| At the downstream face of the Private Road culvert (downstream of Main Street) | +610
Slate Bottom Creek | At the confluence with Cayuga Creek Approximately 175 feet upstream of Brunk Road | +600 +715 | Town of Cheektowaga, Town of Elma, Town of Lancaster.
Smokes Creek | At the confluence with Lake Erie Approximately 550 feet upstream of the Bethlehem Steel Vehicular Bridge | +581 +581 | City of Lackawanna.
Smokes Creek Northwest Branch | Approximately 1,475 feet downstream of Berg Road Approximately 2,950 feet upstream of Berg Road | +662 +706 | Town of West Seneca.
Smokes Creek Northwest Branch | Approximately 380 feet upstream of Highland Avenue Approximately 1,615 feet upstream of Highland Avenue | +870 +872 | Village of Orchard Park.
Smokes Creek Overland Flow | At the upstream face of the Lake Shore Road culvert At the upstream Village of Blasdell/City of Lackawanna boundary | +581 +591 | Town of Hamburg, Village of Blasdell.
Smokes Creek South Branch | Approximately 115 feet upstream of Recreational Park Access Drive/Town of Orchard Park corporate limits Approximately 630 feet north of the intersection of Elmhurst Drive and Woodland Drive/Town of Orchard Park corporate limits | +813 +845 | Town of Orchard Park.
Tannery Brook | Approximately 195 feet upstream of Fillmore Avenue/Town of Aurora downstream corporate limits | +935 | Town of Aurora.
| Approximately 170 feet downstream of Brooklea Drive/Town of Aurora upstream corporate limits | +936
Tonawanda Creek | At Mary Vista Court extended At the downstream face of the footbridge near the intersection of Creekside Road and Niagara Falls Boulevard | +572 +574 | Town of Amherst, Town of Tonawanda.
Unnamed Tributary to Slate Bottom Creek | At the confluence with Slate Bottom Creek Approximately 450 feet upstream of Towers Boulevard | +609 +609 | Town of Cheektowaga.
ADDRESSES
City of Buffalo
Maps are available for inspection at Buffalo City Hall, 65 Niagara Square, Buffalo, NY 14202.
City of Lackawanna
Maps are available for inspection at City Hall, 714 Ridge Road, Lackawanna, NY 14218.
City of Tonawanda
Maps are available for inspection at Tonawanda City Hall, 200 Niagara Street, Tonawanda, NY 14150.
Town of Amherst
Maps are available for inspection at the Amherst Town Hall, 5583 Main Street, Williamsville, NY 14221.
Town of Aurora
Maps are available for inspection at the Aurora Town Hall, 5 South Grove Street, East Aurora, NY 14052.
Town of Brant
Maps are available for inspection at the Town Hall, 1294 Brant-North Collins Road, Brant, NY 14027.
Town of Cheektowaga
Maps are available for inspection at the Town Hall, 3301 Broadway, Cheektowaga, NY 14227.
Town of Clarence
Maps are available for inspection at the Town Hall, 1 Town Place, Clarence, NY 14031.
Town of Eden
Maps are available for inspection at the Town Hall, 2795 East Church Street, Eden, NY 14057.
Town of Elma
Maps are available for inspection at the Town Hall, 1600 Bowen Road, Elma, NY 14059.
Town of Hamburg
Maps are available for inspection at the Hamburg Town Hall, 6100 South Park Avenue, Hamburg, NY 14075.
Town of Holland
Maps are available for inspection at the Town Hall, 47 Pearl Street, Holland, NY 14080.
Town of Lancaster
Maps are available for inspection at the Lancaster Town Hall, 21 Central Avenue, Lancaster, NY 14086.
Town of Orchard Park
Maps are available for inspection at the Town Hall, 4295 South Buffalo Road, Orchard Park, NY 14127.
Town of Tonawanda
Maps are available for inspection at the Tonawanda Town Hall, 2919 Delaware Avenue, Tonawanda, NY 14217.
Town of West Seneca
Maps are available for inspection at the Town Hall, 1250 Union Road, West Seneca, NY 14224.
Village of Alden
Maps are available for inspection at the Village Hall, 13336 Broadway, Alden, NY 14004.
Village of Blasdell
Maps are available for inspection at the Village Hall, 121 Miriam Avenue, Blasdell, NY 14219.
Village of Depew
Maps are available for inspection at the Village Hall, 85 Manitou Street, Depew, NY 14043.
Village of East Aurora
Maps are available for inspection at the Village Hall, 571 Main Street, East Aurora, NY 14052.
Village of Hamburg
Maps are available for inspection at the Hamburg Village Hall, 100 Main Street, Hamburg, NY 14075.
Village of Lancaster
Maps are available for inspection at the Lancaster Village Hall, 5423 Broadway, Lancaster, NY 14086.
Village of Orchard Park
Maps are available for inspection at the Orchard Park Village Hall, 4295 South Buffalo Road, Orchard Park, NY 14127.

[FR Doc. 2019-06588 Filed 4-3-19; 8:45 am]

BILLING CODE 9110-12-P